DEPARTMENT OF ENERGY

Federal Energy Regulatory Commission

Combined Notice of Filings #1

Take notice that the Commission received the following electric corporate filings:

Docket Numbers: EC17-183-000.

Applicants: Danskammer Holdings LLC, Danskammer Energy, LLC.

Description: Joint Application for Approval Under Section 203 of the Federal Power Act and Request for Expedited Approval of Danskammer Holdings LLC, et al.

Filed Date: 9/15/17.

Accession Number: 20170915-5170.

Comments Due: 5 p.m. ET 10/6/17.

Take notice that the Commission received the following electric rate filings:

Docket Numbers: ER17-2173-000.

Applicants: Cedar Creek II, LLC.

Description: § 205(d) Rate Filing: Revised Market-Based Rate Tariff to be effective 9/27/2017.

Filed Date: 7/28/17.

Accession Number: 20170728-5059.

Comments Due: 5 p.m. ET 9/25/17.

Docket Numbers: ER17-2495-000.

Applicants: Southwest Power Pool, Inc.

Description: Request for Approval to Reprice of Southwest Power Pool, Inc.

Filed Date: 9/15/17.

Accession Number: 20170915-5178.

Comments Due: 5 p.m. ET 10/6/17.

Docket Numbers: ER17-2496-000.

Applicants: Midcontinent Independent System Operator, Inc.

Description: § 205(d) Rate Filing: 2017-09-18_SA 3049 NSP-NSP GIA (J399) to be effective 9/1/2017.

Filed Date: 9/18/17.

Accession Number: 20170918-5056.

Comments Due: 5 p.m. ET 10/10/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 18, 2017.
Nathaniel J. Davis, Sr.,
Deputy Secretary.

[FR Doc. 2017-20252 Filed 9-21-17; 8:45 am]

BILLING CODE 6717-01-P